DEPARTMENT OF LABOR

Employment and Training Administration

[TA-W-63,432]

Kongsburg Automotive Driveline Systems Division Including On-Site Leased Workers From People Link, Staffing Solutions And Qci Technical Staffing Van Wert, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on June 19, 2008, applicable to workers of Kongsburg Automotive, Driveline Systems Division, including on-site leased workers from People Link and Staffing Solutions, Van Wert, Ohio. The notice was published in the Federal Register on July 14, 2008 (73 FR 40388).

At the request of the petitioners, the Department reviewed the certification for workers of the subject firm. The workers produce automotive shift cables and shirt towers.

New information shows that workers leased from QCI Technical Staffing were employed on-site at the Van Wert, Ohio location of Kongsburg Automotive, Driveline Systems Division. The Department has determined that these workers were sufficiently under the control of the subject firm to be considered leased workers.

Based on these findings, the Department is amending this certification to include workers leased from QCI Technical Staffing working on-site at the Van Wert, Ohio location of Kongsburg Automotive, Driveline Systems Division.

The amended notice applicable to TA-W-63,432 is hereby issued as follows:

All workers of Kongsberg Automotive, Driveline Systems Division, including on-site leased workers from People Link, Staffing Solutions and QCI Technical Staffing, Van Wert, Ohio, who became totally or partially separated from employment on or after May 8, 2007, through June 19, 2010, are eligible to apply for adjustment assistance under Section 223 of the Trade Act of 1974, and are also eligible to apply for alternative trade adjustment assistance under Section 246 of the Trade Act of 1974.

Signed at Washington, DC this 24th day of November 2009.
Elliott S. Kushner,
Certifying Officer, Division of Trade Adjustment Assistance.

[FR Doc. E9-29507 Filed 12-10-09; 8:45 am]

BILLING CODE 4510-FN-P